FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 12, 2022.

A. Federal Reserve Bank of Atlanta (Erien O. Terry, Assistant Vice President) 1000 Peachtree Street NE, Atlanta, Georgia 30309. Comments can also be sent electronically to Applications.Comments@atl.frb.org:

1. Blythe B. Cragon, Jr., Albany, New York; Lynn Cragon Frazier, Richardson, Texas; and Robert C. Cragon, Jackson, Mississippi; to join the Cragon Family Group, a group acting in concert, to retain voting shares of Copiah Bancshares, Inc., and thereby indirectly retain voting shares of Copiah Bank, both of Hazlehurst, Mississippi.

B. Federal Reserve Bank of Dallas (Karen Smith, Director, Applications) 2200 North Pearl Street, Dallas, Texas 75201-2272:

1. Randall Lee Ferguson—1995 GSST Trust fbo Randall Lee Ferguson, Ferguson 1998 Trust fbo Randall Lee Ferguson, Randall Lee Ferguson, as trustee of both trusts, and Clinton Alexander Ferguson, all of Pearland, Texas; to join the Ferguson Family Control Group, a group acting in concert, and to retain voting shares of Coastal Bancshares, Inc., and thereby indirectly retain voting shares of Pearland State Bank and First National Bank of Alvin, all of Pearland, Texas.

Additionally, Randall Lee Ferguson, individually, and Ferguson 2013 Family Trust fbo Randall Lee Ferguson, Randall Lee Ferguson, as trustee, Pearland, Texas, to join the Ferguson Family Control Group, and to acquire voting shares of Coastal Bancshares, Inc, and thereby indirectly acquire voting shares of Pearland Bank and Alvin Bank.

Board of Governors of the Federal Reserve System.
Michele Taylor Fennell,
Deputy Associate Secretary of the Board.

[FR Doc. 2022-18462 Filed 8-25-22; 8:45 am]

BILLING CODE P